DEPARTMENT OF STATE

[Delegation of Authority No. 448]

Delegation of Authority To Concur With Department of Defense Humanitarian and Civic Assistance Activities

Correction

In notice document 2018-16782, appearing on page 38450, in the issue of Monday, August 6, 2018, make the following correction:

On page 38450, in the second column, in the first paragraph, on the fourth line, the text-entry for the “State Department Basic Authorities Act” is corrected to read “State Department Basic Authorities Act (22 U.S.C. 2651a) and 10 U.S.C. 401”.

[FR Doc. C1-2018-16782 Filed 8-20-18; 8:45 am]

BILLING CODE 1301-00-D